SECURITIES AND EXCHANGE COMMISSION

[File No. 500-1]

In the Matter of Biopharm Asia, Inc., China Organic Agriculture, Inc., and Guilin Paper, Inc.; Order of Suspension of Trading

April 19, 2013.

Correction

In notice document 2013-09635, appearing on page 23970, in the issue of Tuesday, April 23, 2013, make the following correction:

On page 23970, in the first column, the Subject in the heading is corrected to read as set forth above.

[FR Doc. C1-2013-09635 Filed 5-2-13; 8:45 am]

BILLING CODE 1505-01-D